DEPARTMENT OF LABOR

Employment and Training Administration

[TA-W-73,591A]

Chrysler Group, LLC Manufacturing Division St. Louis North Plant Including On-Site Leased Workers From American Food, G4S Wackenhut, C R Associates, Syncreon, Robinson Solutions and Dupont Performance Coatings Fenton, MO; Amended Certification Regarding Eligibility To Apply for Worker Adjustment Assistance

In accordance with Section 223 of the Trade Act of 1974, as amended (“Act”), 19 U.S.C. 2273, the Department of Labor issued a Certification of Eligibility to Apply for Worker Adjustment Assistance on June 2, 2010, applicable to workers of Chrysler Group, LLC, Manufacturing Division, St. Louis North Plant, including on-site leased workers from American Food, G4S Wackenhut, C R Associates, Syncreon and Robinson Solutions, Fenton, Missouri. The notice was published in the Federal Register on June 16, 2010 (75 FR 34177).

At the request of petitioners, the Department reviewed the certification for workers of the subject firm. The workers develop and produce performance coating solutions for vehicles.

The company reports that workers leased from DuPont Performance Coatings, a wholly-owned subsidiary of E.I. DuPont de Nemours Company, OEM, were employed on-site at the Fenton, Missouri location of Chrysler Group, LLC, Manufacturing Division, St. Louis North Plant. The Department has determined that these workers were sufficiently under the control of the subject firm to be considered leased workers.

Based on these findings, the Department is amending this certification to include workers leased from DuPont Performance Coatings, a wholly-owned subsidiary of E.I. DuPont de Nemours Company, OEM, working on-site at the Fenton, Missouri location of Chrysler Group, LLC, Manufacturing Division, St. Louis North Plant.

The amended notice applicable to TA-W-73,591A is hereby issued as follows:

All workers of Chrysler Group, LLC, Manufacturing Division, St. Louis Plant North, including on-site leased workers from American Food, G4S Wackenhut, C R Associates, Syncreon, Robinson Solutions, and DuPont Performance Coatings, a wholly owned subsidiary of E.I. DuPont de Nemours Company, OEM, Fenton, Missouri, who became totally or partially separated from employment on or after February 25, 2009, through June 2, 2012, and all workers in the group threatened with total or partial separation from employment on the date of certification through two years from the date of certification, are eligible to apply for adjustment assistance under Chapter 2 of Title II of the Trade Act of 1974, as amended.

Signed at Washington, DC this 9th day of August 2010.
Michael W. Jaffe,
Certifying Officer, Division of Trade Adjustment Assistance.

[FR Doc. 2010-20787 Filed 8-20-10; 8:45 am]

BILLING CODE 4510-FN-P